DEPARTMENT OF TRANSPORTATION

Pipeline and Hazardous Materials Safety Administration

Hazardous Materials: Notice of Applications for Modification to Special Permits

AGENCY: Pipeline and Hazardous Materials Safety Administration (PHMSA), DOT.

ACTION: List of applications for modification of special permits.

SUMMARY: In accordance with the procedures governing the application for, and the processing of, special permits from the Department of Transportation's Hazardous Material Regulations, notice is hereby given that the Office of Hazardous Materials Safety has received the application described herein.

DATES: Comments must be received on or before August 14, 2024.

ADDRESSES: Record Center, Pipeline and Hazardous Materials Safety Administration, U.S. Department of Transportation Washington, DC 20590.

Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Each mode of transportation for which a particular special permit is requested is indicated by a number in the “Nature of Application” portion of the table below as follows: 1—Motor vehicle, 2—Rail freight, 3—Cargo vessel, 4—Cargo aircraft only, 5—Passenger-carrying aircraft.

Copies of the applications are available for inspection in the Records Center, East Building, PHH-13, 1200 New Jersey Avenue Southeast, Washington DC or at http://regulations.gov.

This notice of receipt of applications for special permit is published in accordance with part 107 of the Federal hazardous materials transportation law (49 U.S.C. 5117(b); 49 CFR 1.53(b)).

Issued in Washington, DC, on July 17, 2024.
Donald P. Burger,
Chief, General Approvals and Permits Branch.

Special Permits Data
Application No. | Applicant | Regulation(s) affected | Nature of the special permits thereof
7694-M | Applied Pressure Vessels, Inc | 173.301a, 175.3 | To modify the special permit to authorize compressed oxygen. (modes 1, 2, 4).
10232-M | Illinois Tool Works Inc | 173.304(d), 173.167, 173.306(i) | To modify the special permit to authorize an additional hazardous material and the removal of a hazardous material. (modes 1, 2, 3, 4, 5).
12102-M | Veolia ES Technical Solutions LLC | 173.56(i), 173.56(b) | To modify the special permit to authorize an additional hazardous material. (modes 1, 3).
14154-M | Mission Systems Orchard Park Inc | 180.205, 173.302a(a)(1), 173.304a(a)(1) | To modify the special permit to authorize additional Division 2.2 gases. (modes 1, 2, 3, 4, 5).
14832-M | Trinity Industries, Inc | 172.203(a), 173.31(e)(2)(iii), 179.100-12(c) | To modify the special permit to update the stencil specifications and to remove the 20-year life limitation. (mode 2).
14940-M | Crown Cork & Seal USA, Inc | 173.306(a)(3), 178.33-1(a), 178.33-2, 178.33-3(a), 178.33-4(a), 178.33-5(a), 178.33-6, 178.33-7, 178.33-8, 178.33-9, 178.33a-1, 178.33a-2, 178.33a-3, 178.33a-4, 178.33a-5, 178.33a-6, 178.33a-7, 178.33a-8, 178.33a-9 | To modify the special permit to authorize cargo-only aircraft as a mode of transportation. (mode 4).
21063-M | Mission Systems Orchard Park Inc | 173.302(a)(1) | To modify the special permit to update the maximum service pressure and minimum test pressure from 10,300 psig to 9,125 psig and from 12875 psig to 11,407 psig. (modes 1, 2, 3, 4).
21297-M | Luxfer Canada Limited | 173.301(i), 178.75 | To modify the special permit to authorize different methods of requalification, an increase in the maximum service use, and alternative bonfire acceptance criteria. (modes 1, 2, 3, 4).
21377-M | Proterra Inc | 172.101(j) | To modify the special permit to authorize additional lithium ion batteries. (mode 4).
21513-M | The Chemours Company FC LLC | 173.301(f)(2), 177.840(a)(1) | To modify the special permit to authorize the return of cylinders for refilling and to authorize a package QR code in lieu of retaining a copy of the special permit at each location of use. (mode 1).
21551-M | Bolloré Logistics Germany GmbH | 172.300, 172.400, 172.101(j), 173.301(f), 173.302a(a)(1), 173.185(a)(1), 172.101(j)(1), 173.220 | To modify the special permit to authorize additional departure airports. (modes 1, 3, 4).
21663-M | Orbion Space Technology, Inc | 172.203(a), 172.301(c), 173.301(f)(1), 173.302(a)(1) | To modify the special permit to authorize an additional packaging, additional modes, and an additional hazardous material. (mode 1).
21678-M | Moxion Power Co. | 172.102(c)(1) | To modify the special permit to authorize international transportation aboard aircraft. (mode 4).
21708-M | Loft Orbital Solutions Inc | 173.27(b)(2), 173.301(f), 173.302a, 173.304a, 171.23(a)(2)(iv) | To modify the special permit to authorize additional outer packagings. (modes 1, 2, 3, 4).

[FR Doc. 2024-16651 Filed 7-29-24; 8:45 am]

BILLING CODE P